DEPARTMENT OF TRANSPORTATION

Federal Railroad Administration

[Docket Number FRA-2010-0129]

Petition for Waiver of Compliance

Under part 211 of Title 49 Code of Federal Regulations (CFR), this provides the public notice that by a letter dated February 14, 2019, the Sierra Northern Railway (SERA) petitioned the Federal Railroad Administration (FRA) for an extension of a waiver of compliance from certain provisions of the Federal railroad safety regulations contained at 49 CFR part 215. FRA assigned the petition Docket Number FRA-2010-0129.

Specifically, SERA requests relief from the stenciling requirement contained in 49 CFR 215.303, Stenciling of restricted cars, for 5 freight cars, one gondola and four box cars modified as “open air concession” passenger cars to give passengers a pleasurable ride in the Sacramento and Coastal Mountain area. SERA operates the subject cars on the 40-mile Mendocino Division between Willits and Ft. Bragg, California, and on the Sacramento Division for 14 miles between Woodland and Lovdal Siding near West Sacramento, California. SERA does not interchange this equipment with the general system of transportation. The maximum speed of operation is 20 miles per hour. The cars are typically operated no more than 40 miles in a day and approximately 75 days per year.

SERA states that it continues to maintain all equipment, operations and track to FRA compliance standards and there has not been an equipment-related derailment of any SERA tourist or dinner train in over 10 years. These cars are painted to match passenger cars. Stenciling according to § 215.303 would be disruptive to the appearance of the train. Further, stenciling indicating some restriction might invite unwarranted concerns by passengers.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 29, 2019 will be considered by FRA before final action is taken. Comments received after that date will be considered as far as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2019-04608 Filed 3-12-19; 8:45 am]

BILLING CODE 4910-06-P